DEPARTMENT OF LABOR

Office of the Secretary

Submission for OMB Emergency Review; Comment Request

September 21, 2000.

The Department of Labor has submitted the following (see below) information collection request (ICR), utilizing emergency review procedures, to the Office of Management and Budget (OMB) for review and clearance in accordance with the Paperwork Reduction Act of 1995 (P.L. 104-13, 44 U.S.C. Chapter 35). OMB approval has been requested by October 2, 2000. A copy of this ICR, with applicable supporting documentation, may be obtained by calling the Department of Labor Departmental Clearance Officer, Ira L. Mills ((202) 693-4122).

Comments and questions about the ICR listed below should be forwarded to the Office of Information and Regulatory Affairs, Attn: OMB Desk Officer for Departmental Management, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Department of Labor/Presidential Task Force on the Employment of Adults with Disabilities.

Title: Youth Essay Contest.

OMB Number: 1200-ONew.

Frequency: One time only.

Affected Public: Individuals or households; Not-for-profit institutions.

Number of Respondents: 1,000.

Total Annual Responses: 1,000.

Total Burden Hours: 2,000 hours.

Total Burden Cost (capital/startup): $0.

Total Burden Cost (operating/maintaining): $0.

Description: In celebration of National Disability Employment Awareness Month in October, the 10th Anniversary of the Americans with Disabilities Act (ADA), and the 25th Anniversary of the Individuals with Disabilities Education Act (IDEA), the Presidential Task Force on the Employment of Adults with Disabilities is sponsoring an essay contest open to youth of all ages, with and without disabilities.

There will be five award categories: elementary (Grades 1-3 and Grades 4-6); middle (Grades 7-9); secondary (Grades 10-12); and post-secondary (Youth in Transition).

To enter, youth in the elementary and middle school categories will be require to write an essay of up to 250 words, and youth in the secondary and post-secondary categories will be required to write an essay of up to 500 words addressing one of the following questions:

1. Why my life is better because of the ADA?

2. How will the ADA Help to Prepare Me for What I Want to Do When I Grow Up?

3. What Should Be Done to Address Remaining Attitudinal Barriers Toward People with Disabilities?

Classes and teams of children with and without disabilities are encouraged to submit joint entries.

Essays will be judged by the following criteria:

1. Appropriateness of Content.

2. Originality.

3. Clarity.

The deadline for submission of essays is October 15, 2000. Entries are to be submitted electronically to Basha-Rhonda@dol.gov, or mailed or provided in other alternative formats by no later than October 15, 2000 to: Presidential Task Force on the Employment of Adults with Disabilities Essay Contest, 200 Constitution Ave, NW., Rm. S-2220, Washington, DC 20210, Attention: Rhonda Basha.

The top three winners in the elementary and middle school categories will receive $300, $200, and $100 respectively. The top three winners in the secondary and post-secondary categories, will be awarded savings bonds or cash prizes of $500, $400, and $300 respectively. In addition, a gift made in the winner's name will be awarded to the educational institution of the winner's choice in the same denomination. All prize monies will be paid by the Department of Labor's Bequest and Gift Fund.

Winners will be announced on National Disability Mentoring Day, Wednesday, October 25, 2000. Winning entries will be displayed on the disability.gov web page from October 25 until November 25, 2000.

Ira L. Mills,
Departmental Clearance Officer.

[FR Doc. 00-24669 Filed 9-22-00; 8:45 am]

BILLING CODE 4510-23-M